DEPARTMENT OF JUSTICE

Office of Justice Programs

[OJP (OJJDP) Docket No. 1830]

Meeting of the Coordinating Council on Juvenile Justice and Delinquency Prevention

AGENCY: Coordinating Council on Juvenile Justice and Delinquency Prevention.

ACTION: Notice of meeting.

SUMMARY: The Coordinating Council on Juvenile Justice and Delinquency Prevention announces its next meeting.

DATES: Thursday, September 19, 2024, at 1:00 p.m.-4:00 p.m. ET.

ADDRESSES: The meeting will take place at the Department of Justice, 810 7th St. NW, Washington, DC.

FOR FURTHER INFORMATION CONTACT: Visit the website for the Coordinating Council at www.juvenilecouncil.gov or contact Shauntice McCorkle, Meeting Planner, by telephone (202) 706-1283, email at Shauntice.McCorkle@usdoj.gov; or Julie Herr, Designated Federal Official (DFO), OJJDP, by telephone at (202) 598-6885, email at Julie.Herr@usdoj.gov. Please note that the above phone numbers are not toll free.

SUPPLEMENTARY INFORMATION: The Coordinating Council on Juvenile Justice and Delinquency Prevention (“Council”), established by statute in the Juvenile and Delinquency Prevention Act of 1974 section 206(a) (34 U.S.C. 11116(a)), will meet to carry out its advisory functions. Information regarding this meeting will be available on the Council's web page at www.juvenilecouncil.gov. This meeting will be open to the public for in-person attendance or via online video conference. Prior registration is required (see below). In addition, meeting documents will be viewable via this website including meeting announcements, agendas, minutes, and reports.

Although designated agency representatives may attend in lieu of members, the Council's formal membership consists of the following secretaries and/or agency officials; Attorney General (Chair), Administrator of the Office of Juvenile Justice and Delinquency Prevention (Vice Chair), Secretary of Health and Human Services, Assistant Secretary for Mental Health and Substance Use, Secretary of the Interior, Secretary of Labor, Secretary of Education, Secretary of Housing and Urban Development, Director of the Office of National Drug Control Policy, Chief Executive Officer of AmeriCorps, and the Director of the U.S. Immigration and Customs Enforcement. Up to ten additional members are appointed by the President of the United States, the Speaker of the U.S. House of Representatives, the U.S. Senate Majority Leader, and the Chairman of the Committee on Indian Affairs of the Senate. Further agencies that take part in Council activities include the Departments of Agriculture and Defense, and the Consumer Financial Protection Bureau.

Council meeting agendas are available on www.juvenilecouncil.gov. Agendas will generally include: (a) Opening remarks and introductions; (b) Presentations of agency work or other topical areas of interest; and (c) Subcommittee reports and discussion of Council priorities.

All members of the public who wish to attend must register in advance. To attend virtually, please register at the WebEx registration site, by no later than Tuesday, September 17, 2024. Those who prefer to attend in person must register at www.juvenilecouncil.gov. Should issues arise with online registration, or to register via email, please contact Shauntice McCorkle, Meeting Planner (see above for contact information). If submitting registrations by email, attendees should include all of the following: Name, Title, Organization/Affiliation, Full Address, Phone Number, and Email.

Interested parties may submit written comments and questions in advance to Shauntice McCorkle, Meeting Planner (contact information above). All comments and questions should be submitted no later than 5:00 p.m. ET on Friday, September 13, 2024.

The Council will limit public statements if they are found to be duplicative. Written questions submitted by public attendees may also be considered by the Council, time permitting.

Julie Herr,
Designated Federal Official, Office of Juvenile Justice and Delinquency Prevention.

[FR Doc. 2024-19324 Filed 8-27-24; 8:45 am]

BILLING CODE 4410-18-P